DEPARTMENT OF DEFENSE

GENERAL SERVICES ADMINISTRATION

NATIONAL AERONAUTICS AND SPACE ADMINISTRATION

48 CFR Chapter 1

[Docket No. FAR-2020-0051, Sequence No. 8]

Federal Acquisition Regulation; Federal Acquisition Circular 2021-03; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2021-03. A companion document, the Small Entity Compliance Guide (SECG), follows this FAC.

DATES: For effective dates see the separate documents, which follow.

FOR FURTHER INFORMATION CONTACT: The analyst whose name appears in the table below in relation to the FAR case. For information pertaining to status or publication schedules, contact the Regulatory Secretariat Division at 202-501-4755 or GSARegSec@gsa.gov.

Rules Listed in FAC 2021-03
Item | Subject | FAR case | Analyst
I | Violations of Arms Control Treaties or Agreements with the United States | 2017-018 | Jackson.
II | Lowest Price Technically Acceptable Source Selection Process | 2018-016 | Jackson.
III | Individual Sureties | 2017-003 | Delgado.
IV | Technical Amendments

ADDRESSES: The FAC, including the SECG, is available via the internet at https://www.regulations.gov.

SUPPLEMENTARY INFORMATION: Summaries for each FAR rule follow. For the actual revisions and/or amendments made by these FAR rules, refer to the specific item numbers and subjects set forth in the documents following these item summaries. FAC 2021-03 amends the FAR as follows:

Item I—Violations of Arms Control Treaties or Agreements With the United States (FAR Case 2017-018)

This final rule adopts as final with changes, an interim rule published on June 15, 2018. The interim rule amended the FAR to implement 22 U.S.C. 2593e, as added by section 1290 of the National Defense Authorization Act for Fiscal Year 2017 (Pub. L. 114-328). The final rule makes technical edits clarifying the suspension and debarment remedies for determination of a false certification pursuant to 22 U.S.C. 2593e, and other minor edits.

Item II—Lowest Price Technically Acceptable Source Selection Process (FAR Case 2018-016)

This final rule amends the FAR to implement section 880 of the John S. McCain National Defense Authorization Act for Fiscal Year 2019. Specifically, this rule amends: (1) FAR part 15 to specify the criteria that must be met in order to include lowest price technically acceptable (LPTA) source selection criteria in a solicitation, and require solicitations predominantly for the acquisition of certain services and supplies to avoid the use of LPTA source selection criteria, to the maximum extent practicable; and (2) FAR parts 12, 13, 16, and 37 to point to the text in FAR part 15, as applicable.

Item III—Individual Sureties (FAR Case 2017-003)

This final rule changes the kind of assets that an individual surety must pledge as security for an individual surety bond. A pledge of assets must consist only of eligible obligations, i.e., public debt obligations of the United States Government. The rule implements section 874 of the National Defense Authorization Act for Fiscal Year 2016 (Pub. L. 114-92), codified at 31 U.S.C. 9310, Individual Sureties.

This final rule will not have a significant economic impact on a substantial number of small entities.

Item IV—Technical Amendments

Editorial changes are made at FAR 2.101, 15.209, 17.502-1, 37.103, 52.212-3, 52.212-5, 52.213-4, 52.222-18, 52.223-3, 52.225-2, 52.225-4, 52.225-6, 52.225-9, 52.225-13, and 52.229-12.

William F. Clark,
Director, Office of Government-wide Acquisition Policy, Office of Acquisition Policy, Office of Government-wide Policy.

Federal Acquisition Circular (FAC) 2021-03 is issued under the authority of the Secretary of Defense, the Administrator of General Services, and the Administrator of National Aeronautics and Space Administration.

Unless otherwise specified, all Federal Acquisition Regulation (FAR) and other directive material contained in FAC 2021-03 is effective January 14, 2021 except for Items I through IV, which are effective February 16, 2021.

Linda W. Neilson,

Director, Defense Acquisition Regulations System, Department of Defense.

William F. Clark,

Director, Office of Government-wide Acquisition Policy, Office of Acquisition Policy, Office of Government-wide Policy.

William G. Roets, II,

Acting Assistant Administrator, Office of Procurement, National Aeronautics and Space Administration.

[FR Doc. 2020-29085 Filed 1-13-21; 8:45 am]

BILLING CODE 6820-EP-P